DEPARTMENT OF HEALTH AND HUMAN SERVICES

Administration for Children and Families

Office of Planning, Research and Evaluation (OPRE); Notice

Funding Opportunity Title: Head Start Graduate Student Research, Partnership Development Grants.

Announcement Type: Initial.

Funding Opportunity Number: HHS-2005-ACF-OPRE-YD-0069.

CFDA Number: 93.600.

Due Date for Letter of Intent or Preapplications: June 3, 2005.

Due Date for Applications: Application is due June 24, 2005.

Executive Summary: Funds are provided for Graduate Student Research Partnership Development Grants to develop or enhance Head Start Research Partnerships.

This grant program is part of a larger set of Head Start research announcements. Three other grant funding mechanisms are being offered concurrently with the one described in this announcement. They include: (1) Head Start Graduate Student Research Grants, (2) Head Start-University Partnerships: Curriculum Development and Enhancement for Head Start and Early Head Start Programs, and (3) American Indian-Alaska Native Head Start-University Partnerships. For more information, please see these other Head Start Research announcements listed in the Federal Register or listed on http://www.Grants.Gov.

Funding for this grant program is shared with the Head Start Graduate Student Research Grants. Relative funding for the two sets of Head Start Graduate Student Research Grants is contingent upon the results of the review process.

I. Funding Opportunity Description

Head Start Graduate Student Research Partnership Development Grants

A. Purpose

This is to announce the availability of Head Start Graduate Student Research Partnership Development Grant funds to support graduate students' efforts to create, develop, and/or enhance ongoing research partnerships with Head Start programs in good standing. The primary goal of this priority area is to support the development of critical research partnerships with Head Start programs that will lead to a truly collaborative set of research activities.

B. Statutory Authority

Section 649 of the Head Start Act, as amended by the Coats Human Services Reauthorization Act of 1998 (Pub. L. 105-285), codified at 42 U.S.C. 9844.

C. Background

Starting in 1991, ACF began explicitly supporting the relationship between established Head Start researchers and their graduate students by awarding research grants, on behalf of specific graduate students, to conduct research in Head Start communities.

The unique partnership that is forged between mentor and student within the Head Start research context serves as a model for the establishment of other partnerships within the community (e.g., researcher-Head Start staff, researcher-family, etc.). This foundation helps foster the skills necessary to build a graduate student's trajectory of successful partnership-building and contributions to the scientific community. Within this nurturing and supportive relationship, young researchers are empowered to become autonomous researchers, learning theory as well as the process of interacting with the various members and relevant organizations within their communities.

However, effectively developing new research partnerships between researchers and Head Start communities also requires considerable planning, effort, and commitment. Without resources to support this work, students in graduate programs that do not already have a research partnership with a Head Start program are discouraged from conducting research in this arena. Additionally, in places where partnerships between researchers and Head Start communities already exist, the benefit of the partnerships for the Head Start partners could be strengthened by focused, on-going efforts that specifically target enhancing the collaborative relationship. One example of such an effort might be to help a Head Start partner interpret and implement research findings in a program.

In recognition of these facts, ACF recently established a new funding mechanism designed to facilitate the entry of more mentor/student teams to the field of Head Start research by encouraging the development of such new research partnerships. It is also intended to support students dedicated to strengthening existing research partnerships. As noted above, the primary goal of this priority area is to support the development of critical research partnerships with Head Start programs that will lead to a truly collaborative set of research activities.

The broad goals of this priority area are similar to those of the Head Start Graduate Student Research Grant program, and can be summarized as follows:

• Provide direct support for graduate students engaging in the development of research partnerships with Head Start programs, thus strengthening the links between Head Start and the research community, and increasing the research that contributes to the knowledge base about the best approaches for delivering services to diverse, low-income families and their children;

• Promote mentor-student relationships which support students' graduate training and professional development as young community-based researchers engaged in policy-relevant, applied research;

• Emphasize the importance of developing true working research partnerships with Head Start programs and other relevant entities within the community, thereby fostering skills necessary to build a student's trajectory of successful partnership-building and contributions to the scientific community; and

• Support the active communication, networking and collaboration among graduate students, their mentors and other prominent researchers in the field, both during their graduate training, as well as into the early stages of their research careers.

Priority Area 1: Head Start Graduate Student Research Partnership Development Grants

1. Description: This is to announce the availability of Head Start Graduate Student Research Partnership Development Grant funds to support graduate students' efforts to create, develop, and/or enhance ongoing research partnerships with Head Start programs in good standing. The primary goal of this priority area is to support the development of critical research partnerships with Head Start programs that will lead to a truly collaborative set of research activities.

II. Award Information

Funding Instrument Type: Grant.

Anticipated Total Priority Area Funding: $80,000.

Anticipated Number of Awards: 4 to 8.

Ceiling on Amount of Individual Awards Per Budget Period: $10,000.

An application that exceeds the upper value of the dollar range specified will be considered non-responsive and will not be eligible for funding under this announcement.

Average Projected Award Amount: $10,000.

Length of Project Periods: 12 month project and budget period.

III. Eligibility Information

1. Eligible Applicants

State controlled institutions of higher education and private institutions of higher education, including faith-based and community-based institutions of higher education.

Additional Information on Eligibility:

1. Eligible applicants are institutions of higher education on behalf of doctoral-level graduate students. Doctoral students must have completed their Master's Degree or equivalent in the field of doctoral study and submitted formal notification to ACF by August 1, 2005.

2. To be eligible to administer the grant on behalf of the student, the institution must be fully accredited by one of the regional accrediting commissions recognized by the Department of Education and the Council on Postsecondary Accreditation.

2. Cost Sharing/Matching

None.

3. Other

1. Although the faculty mentor is listed as the Principal Investigator and must be committed to taking a central role in maintaining an on-going research partnership with a Head Start program, this grant is intended for dissertation research for an individual student. Information about both the graduate student and the student's faculty mentor is required as part of this application.

2. The graduate student applicant must agree to attend two meetings each year of the grant. The budget should reflect travel funds for such purposes. The first meeting consists of the annual meeting for all Head Start Graduate Student grantees. This annual grantee meeting is typically scheduled during the summer or fall of each year and is held in Washington, DC. It is anticipated that the fall 2005 meeting will be held in mid to late October. During this meeting, each student typically presents a brief overview of his or her study (e.g., the study design, participants, measures, challenges and successes during implementation, and/or findings, as they become available). The intended goal of the meeting is to stimulate potentially useful and constructive feedback from other students and mentors, as well as to facilitate collaboration, networking and mentoring activities.

The second meeting each year alternates between the biennial Head Start National Research Conference in Washington, DC (June or July, 2006) and the biennial meeting of the Society for Research in Child Development (SRCD) (April, 2007). At a minimum, students usually are provided the opportunity to present information on their respective studies in a poster session format, although both meetings also provide other networking and mentoring activities. The grant budget should reflect travel and housing funds for the graduate student for these two required meetings.

3. Given the strong emphasis that is placed on supporting the mentor-student relationship, it is crucial that the faculty mentors attend and actively participate in the activities of the annual grantee meeting for all Head Start Graduate Students. The budget should reflect travel funds for such purposes, as appropriate. However, if the faculty mentor does plan to attend the annual Graduate Student grantee meeting, but will utilize another source of travel funds, such arrangements are encouraged and should be clearly noted in the application.

4. Dun and Bradstreet Numbers: All applicants must have Dun & Bradstreet numbers. On June 27, 2003 the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement, and block grant programs, submitted on or after October 1, 2003.

Please ensure that your organization has a DUNS number. You may acquire a DUNS number at no cost by calling the dedicated toll-free DUNS number request line on 1-866-705-5711 or you may request a number online at http://www.dnb.com.

5. Private, Non-Profit institutions of higher education, including faith-based and community-based institutions of higher education, are encouraged to submit with their applications the survey located under “Grant Related Documents and Forms,” “Survey for Private, Non-Profit Grant Applicants” titled, “Survey on Ensuring Equal Opportunity for Applicants” at http://www.acf.hhs.gov/programs/ofs/forms.htm.

6. Any Non-Profit institution of higher education, including faith-based and community-based institutions of higher education, submitting an application must submit proof of its Non-profit status at the time of submission. Any of the following constitutes proof of Non-Profit status:

—A copy of the applicant organization's listing in the Internal Revenue Service's (IRS) most recent list of tax-exempt organizations described in section 501(c)(3) of the IRS Code.

—A copy of a currently valid IRS tax exemption certificate.

—A written statement from a State taxing body, State attorney general, or other appropriate State official certifying that the applicant organization has a Non-Profit status and that none of the net earning accrue to any private shareholders or individuals.

—A certified copy of the organization's certificate of incorporation or similar document that clearly establishes Non-Profit status.

—Any of the items above for a State or national parent organization and a statement signed by the parent organization that the applicant organization is a local Non-Profit affiliate.

7. A university faculty member must serve as a mentor to the graduate student; this faculty member is listed as the “Principal Investigator.” The application must include a letter from this faculty member stating that s/he has reviewed and approved the application, affirming the status of the project as dissertation research and the student's status in the doctoral program, and describing how the faculty member will regularly monitor the student's work.

8. The Principal Investigator must have a doctorate or equivalent degree in the respective field, conduct research as a primary professional responsibility, and have published or have been accepted for publication in the major peer-reviewed research journals in the field as a first author or second author.

9. An important element of this announcement is the requirement that researchers demonstrate a partnership or partnerships with Head Start or Early Head Start programs as part of the development, piloting, refinement, training, and implementation of research activities. The application must contain a letter from the Head Start or Early Head Start program certifying that they have entered into a partnership with the applicant and the application has been reviewed and approved by the Head Start or Early Head Start Policy Council (see section IV.2. for further details about these letters).

10. The partnership development project must be an independent project conducted by the individual graduate student or well-defined portion(s) of a larger study currently being conducted by a faculty member. If the project is part of a larger research effort, the proposal must clearly distinguish between the student's portion of the partnership development activities and those of the larger project. The graduate student must have primary responsibility for the proposed activities described in the application.

11. The graduate student must write the application in its entirety, consistent with the format and style guidelines of the Publication Manual of the American Psychological Association, 5th ed. (American Psychological Association, 2001) and the general principles and guidelines of the Ethical Principles of Psychologists and Code of Conduct 2002 (APA, 2002).

The aforementioned eleven items will not be used as criteria to screen out applications.

Disqualification Factors

• Applications that exceed the ceiling amount will be considered non-responsive and will not be eligible for funding under this announcement.

• Any application received after 4:30 p.m. eastern time on the deadline date will not be considered for competition.

IV. Application and Submission Information

IV.1 Address to Request Application Package

Head Start Research Support Technical Assistance Team, OPRE Grant Review Team, Xtria, LLC, 8045 Leesburg Pike, Suite 400, Vienna, VA 22182. Phone: 877-663-0250. E-mail: opre@xtria.com.

IV.2 Content and Form of Application Submission

An original and two copies of the complete application are required. The original copy must include all required forms, certifications, assurances, and appendices, be signed by an authorized representative, have original signatures, and be submitted unbound. The two additional copies of the complete application must include all required forms, certifications, assurances, and appendices and must also be submitted unbound. Applicants have the option of omitting from the application copies (not the original) specific salary rates or amounts for individuals specified in the application budget and Social Security Numbers, if otherwise required for individuals. The copies may include summary salary information.

Format and Organization: Applicants are strongly encouraged to limit their application to 100 pages, double-spaced, with standard one-inch margins and 12-point fonts. This page limit applies to both narrative text and supporting materials but not the Standard Federal Forms (see list below). Applicants must number the pages of their application beginning with the Table of Contents.

Applicants are advised to include all required forms and materials and to organize these materials according to the format, and in the order, presented below:

a. Cover Letter.

b. Contact information sheet (see details below).

c. Standard Federal Forms.

Standard Application For Federal Assistance (Form 424).

Budget Information—Non-Construction Programs (Form 424A).

Certifications Regarding Lobbying.

Disclosures of Lobbying Activities (if necessary).

Certification Regarding Environmental Tobacco Smoke.

Assurance Regarding Non-Construction Programs (Form 424B).

Assurance Regarding Protection of Human Subjects

d. Table of Contents.

e. Project Abstract (not to exceed one page).

f. Project Narrative Statement (see details below).

g. Appendix.

Proof of Non-Profit Status (see section V.1.F).

Curriculum Vitae for Student and Faculty Advisor.

Letter of Support from Advisor.

Letter(s) of agreement with Head Start program(s) (see details below).

Letter(s) of agreement with Head Start Policy Council(s) (see details below).

Official Transcript of Student Reflecting Graduate Courses.

Content of Contact Information Sheet: The contact information sheet should include complete contact information, including addresses, phone and fax numbers, and e-mail addresses, for the graduate student applicant, the Principal Investigator(s), and the institution's grants/financial officer (person who signs the SF-424).

Content of Project Narrative Statement: The project narrative should be carefully developed in accordance with ACF's research goals and agenda as described in the Purpose, Background, and Priorities of this funding opportunity, and the structure requirements listed in the section V. Application Review Information. Please see section V.1. Criteria for instructions on preparing the project summary/abstract and the full project description.

Content of Letters of Agreement: For research conducted with Head Start, the application must contain (A) an original copy of a letter from the Head Start or Early Head Start program certifying that they have entered into a research partnership with the applicant (graduate student) and (B) a separate letter certifying that the application has been reviewed and approved by the local Head Start Program Policy Council. This certification of approval or pending approval by the Policy Council must be an original letter from the official representative of the Policy Council itself.

You may submit your application to us in either electronic or paper format.

To submit an application electronically, please use the http://www.Grants.gov/Apply site. If you use Grants.gov, you will be able to download a copy of the application package, complete it off-line, and then upload and submit the application via the Grants.gov site. ACF will not accept grant applications via e-mail or facsimile transmission.

Please note the following if you plan to submit your application electronically via Grants.gov

• Electronic submission is voluntary, but strongly encouraged.

• When you enter the Grants.gov site, you will find information about submitting an application electronically through the site, as well as the hours of operation. We strongly recommend that you do not wait until the application deadline date to begin the application process through Grants.gov.

• To use Grants.gov, you, as the applicant, must have a DUNS number and register in the Central Contractor Registry (CCR). You should allow a minimum of five days to complete the CCR registration.

• You will not receive additional point value because you submit a grant application in electronic format, nor will we penalize you if you submit an application in paper format.

• You may submit all documents electronically, including all information typically included on the SF-424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

An original and two copies of the complete application are required. The original and each of the two copies must include all required forms, certifications, assurances, and appendices, be signed by an authorized representative, have original signatures, and be submitted unbound.

Private, Non-Profit institutions of higher education are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications: The project description should include all the information requirements described in the specific evaluation criteria outlined in the program announcement under section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046 which expires 07/2006). Applicants must sign and return the certification with their application.

Applicants must also understand they will be held accountable for the smoking prohibition included within P.L. 103-227, title XII Environmental Tobacco Smoke (also known as the PRO-KIDS Act of 1994). A copy of the Federal Register notice which implements the smoking prohibition is included with forms. By signing and submitting the application, applicants are providing the certification and need not mail back the certification with the application.

Institutions submitting applications or proposals for support of research activities involving human subjects must submit certification of appropriate Institutional Review Board (IRB) review and approval to the Department or Agency in accordance with the Common Rule (56FR28003, June 18, 1991). Institutions must have an assurance of compliance that applies to the research to be conducted and should submit certification of IRB review and approval with each application or proposal unless otherwise advised by the Department or Agency. The appropriate forms may be found at http://www.acf.hhs.gov/programs/ofs/forms.htm.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Please see section V.1. Criteria, for instructions on preparing the full project description.

IV.3 Submission Dates and Times

a. Notice of Intent

If you plan to submit an application, you must notify us by fax or e-mail at least three weeks prior to the submission deadline date. This information will be used only to determine the number of expert reviewers needed to review the applications. Include only the following information in this fax or e-mail: the number and title of this announcement; the names, addresses, telephone and fax numbers, e-mail addresses of the principal investigator (mentor), the graduate student, and the fiscal agent (if known); and the name of the university, non-profit institution of higher education or other eligible organization. Do not include a description of your proposed project. Sent this information to: “Head Start Research Support Technical Assistance Team” at: Fax: 1-703-356-0472. E-mail: opre@xtria.com.

b. Applications

Application Due Date: June 24, 2005.

Explanation of Due Dates: The closing time and date for receipt of applications is referenced above. Applications received after 4:30 p.m. eastern time on the closing date will be classified as late.

Deadline: Applications shall be considered as meeting an announced deadline if they are received on or before the deadline time and date referenced in section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in section IV.6., between Monday and Friday (excluding Federal holidays).

ACF cannot accommodate transmission of applications by facsimile. Therefore, applications transmitted to ACF by fax will not be accepted regardless of date or time of submission and time of receipt.

Receipt acknowledgement for application packages will not be provided to applicants who submit their package via mail, courier services, or by hand delivery. Applicants will receive an electronic acknowledgement for applications that are submitted via Grants.gov.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Checklist: You may use the checklist below as a guide when preparing your application package.

What to submit | Required content | Required form or format | When to submit
SF-424 | See Section IV. | http://www.acf.hhs.gov/programs/ofs/forms.htm | By application due date.
Assurances and Certifications | See Section IV. | http://www.acf.hhs.gov/programs/ofs/forms.htm | By application due date.
Assurance Regarding Protection of Human Subjects. | See Section IV. | Assurance Regarding Protection of Human Subjects. | By application due date.

Additional Forms: Private, Non-Profit institutions of higher education are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Location | When to submit
Survey for Private, Non-Profit Grant Applicants | See form | May be found on www.acf.hhs.gov/programs/ofs/forms.htm | By application due date.

IV.4 Intergovernmental Review:

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by Federally-recognized Indian Tribes, need take no action in regard to E.O. 12372.

The official list, including addresses, of the jurisdictions that have elected to participate in E.O. 12372 can be found on the following URL: http://www.whitehouse.gov/omb/grants/spoc.html.

IV.5 Funding Restrictions

Grant awards will not allow reimbursement of pre-award costs.

Sharing of Awards: Awards can not be divided among two or more students.

IV.6 Other Submission Requirements

Submission by Mail: An applicant must provide an original application with all attachments, signed by an authorized representative and two copies. The application must be received at the address below by 4:30 p.m. eastern time on or before the closing date. Applications should be mailed to: Head Start Research Support Technical Assistance Team, OPRE Grant Review Team, Xtria, LLC, 8045 Leesburg Pike, Suite 400, Vienna, VA 22182. Phone: 877-663-0250. E-mail: opre@xtria.com.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: Head Start Research Support Technical Assistance Team, OPRE Grant Review Team, Xtria, LLC, 8045 Leesburg Pike, Suite 400, Vienna, VA 22182, Phone: 877-663-0250. E-mail: opre@xtria.com.

Electronic Submission: http://www.Grants.gov Please see section IV. 2 Content and Form of Application Submission, for guidelines and requirements when submitting applications electronically.

V. Application Review Information

The Paperwork Reduction Act of 1995 (Pub. L. 104-13)

Public reporting burden for this collection of information is estimated to average 25 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance. Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, explain how your proposed project will achieve the specific goals and objectives you have set; specify the number of children and families to be served, and how the services to be provided will be funded consistent with the local needs assessment. Or, explain how the expected results will benefit the population to be served in meeting its needs for early learning services and activities. What benefits will families derive from these services? How will the services help them? What lessons will be learned which might help other agencies and organizations that are addressing the needs of a similar client population?

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Additional Information

Following are requests for additional information that need to be included in the application:

Staff and Position Data

Provide a biographical sketch and job description for each key person appointed. Job descriptions for each vacant key position should be included as well. As new key staff is appointed, biographical sketches will also be required.

Organizational Profiles

Provide information on the applicant organization(s) and cooperating partners, such as organizational charts, financial statements, audit reports or statements from Certified Public Accountants/Licensed Public Accountants, Employer Identification Numbers, names of bond carriers, contact persons and telephone numbers, child care licenses and other documentation of professional accreditation, information on compliance with Federal/state/local government standards, documentation of experience in the program area, and other pertinent information. If the applicant is a Non-Profit organization, submit proof of Non-Profit status in its application.

Letters of Support

Provide statements from community, public and commercial leaders that support the project proposed for funding. All submissions should be included in the application OR by application deadline.

Budget and Budget Justification

Provide a budget with line-item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

Personnel

Description: Costs of employee salaries and wages.

Justification: Identify the project director or principal investigator, if known. For each staff person, provide the title, time commitment to the project (in months), time commitment to the project (as a percentage or full-time equivalent), and annual salary, grant salary, wage rates, etc. Do not include the costs of consultants or personnel costs of delegate agencies or of specific project(s) or businesses to be financed by the applicant.

Fringe Benefits. Description: Costs of employee fringe benefits unless treated as part of an approved indirect cost rate.

Justification: Provide a breakdown of the amounts and percentages that comprise fringe benefit costs such as health insurance, Federal Insurance Contributions Act (FICA), retirement insurance, taxes, etc.

Travel. Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Supplies. Description: Costs of all tangible personal property other than that included under the Equipment category.

Justification: Specify general categories of supplies and their costs. Show computations and provide other information which supports the amount requested.

Other. Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges. Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Non-Federal Resources. Description: Amounts of non-Federal resources that will be used to support the project as identified in Block 15 of the SF-424.

Justification: The firm commitment of these resources must be documented and submitted with the application so the applicant is given credit in the review process. A detailed budget must be prepared for each funding source.

Evaluation Criteria: The following evaluation criteria appear in weighted descending order. The corresponding score values indicate the relative importance that ACF places on each evaluation criterion; however, applicants need not develop their applications precisely according to the order presented. Application components may be organized such that a reviewer will be able to follow a seamless and logical flow of information (e.g., from a broad overview of the project to more detailed information about how it will be conducted).

In considering how applicants will carry out the responsibilities addressed under this announcement, competing applications for financial assistance will be reviewed and evaluated against the following criteria:

Approach 40 Points

• The extent to which the approach is based in community/ecological/empowerment models, in which research needs are considered in the larger context of program needs, as well as mutually beneficial and empowering relationships.

• The extent to which the proposal demonstrates an approach to the planning, effort, and commitment to development and/or enhancement of Head Start-research partnership(s) consistent with the descriptions in this announcement (see III.A.11 for further details).

• The extent to which there is a discrete project designed by the graduate student. If the proposed project is part of a larger project designed by others, the approach section should clearly delineate the research partnership development component to be carried out by the student and how it is distinguished from the larger project (see III.A.12 for further details).

• The extent to which the goals and objectives of the proposed activities, the set of benchmarks for guiding and assessing progress, and the set of products to be generated are clearly articulated and reflect an appropriate understanding of how these activities will fit within the context and complexities of the Head Start program's operations (see III.A.13 for further details).

• The extent to which the description of the proposed project articulates a set of partnership development activities that are consistent with the activities described in this announcement, as opposed to a set of activities associated with the implementation of an already formulated research study. As noted earlier, the primary goal of this priority area is targeted towards the partnership development activities and not the conduct of an actual research study.

• The scope of the project is reasonable for the funds available and feasible for the time frame specified.

• The extent to which the planned approach or proposed research partnership activities reflect sufficient opportunities for written input from and an active partnership with the Head Start program (including the separate required review and written approval of the proposed partnership activities from the Head Start program and the Head Start Program Policy Council).

• The extent to which the budget and budget justification are appropriate for carrying out the proposed research project development activities.

• The extent to which proposed products reflect concrete and measurable steps toward design of a future dissertation project.

• As applicable, the extent to which the researchers assure adequate protection of human subjects, confidentiality of data, and consent procedures, as appropriate.

Staff and Position Data 35 Points

• The extent to which the faculty mentor and graduate student possess the expertise necessary to successfully form a research partnership with a Head Start program as demonstrated in the application and information contained in their vitae.

• The Principal Investigator/faculty mentor has earned a doctorate or equivalent in the relevant field and has first or second author publications in major research journals.

• The extent to which the faculty mentor and graduate student reflect an understanding of and sensitivity to the issues of working in a community setting and in a reciprocal partnership with Head Start program staff and parents.

• The adequacy of the time devoted to this project by the faculty mentor for mentoring the graduate student. The proposal should include evidence of the faculty mentor's commitment to mentoring the individual graduate student, and as appropriate, willingness to serve as a resource to the broader group of Head Start Graduate Students funded under this award.

• The extent to which the mentor-mentee relationship is clearly described and has the potential to continue throughout the student's dissertation process.

Results or Benefits Expected 25 Points

• The presentation reflects original work done by the student consistent with the general principles and guidelines of the Ethical Principles of Psychologists and Code of Conduct 2002 (APA 2002).

• The extent to which the literature review, as well as a description of the needs of the local community if appropriate, is current, comprehensive, and adequately supports the need for developing this or similar research partnerships.

• The extent to which proposed goals and objectives for the year address the needs identified.

• The extent to which the specific products to be generated through the grant, as well as the benchmarks for assessing progress toward these goals and objectives, are clearly described and will potentially benefit the Head Start and/or research communities.

• The extent to which the literature review has a complete set of reference citations and is written consistent with the guidelines of the Publication Manual of the American Psychological Association, 5th ed. (APA 2001).

• The extent to which the proposed project is appropriate to the student's level of ability and the stated time frame for completing the project.

• The extent to which potential research questions are clearly stated and are of importance and relevance for low-income children's development and welfare.

2. Review and Selection Process

No grant award will be made under this announcement on the basis of an incomplete application.

Each application will undergo an eligibility and conformance review by Federal staff. Applications that pass the eligibility and conformance review will be evaluated on a competitive basis according to the specified evaluation criteria.

The competitive review will be conducted in the Washington, DC metropolitan area by panels of Federal and non-Federal experts knowledgeable in the areas of early childhood education and intervention research, early learning, child care, and other relevant program areas.

Application review panels will assign a score to each application and identify its strengths and weaknesses.

OPRE will conduct an administrative review of the applications and results of the competitive review panels, and make recommendations for funding to the Director of OPRE.

The Director of OPRE, in consultation with the Commissioner of the Administration on Children, Youth, and Families (ACYF), will make the final selection of the applications to be funded. Applications may be funded in whole or in part depending on: (1) The ranked order of applicants resulting from the competitive review; (2) staff review and consultations; (3) the combination of projects that best meets the Bureau's objectives; (4) the funds available; and (5) other relevant considerations. The Director may also elect not to fund any applicants with known management, fiscal, reporting, program, or other problems, which make it unlikely that they would be able to provide effective services.

Approved but Unfunded Applications: In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competition.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

45 CFR Part 74; 45 CFR Part 92

3. Reporting Requirements

Programmatic Reports: Semi-Annually.

Financial Reports: Semi-Annually.

Financial Reports: (SF-269 long form) Semi-annually and a final report is due 90 days after the end of the grant period. Original reports and one copy should be mailed to: Administration for Children and Families, Office of Grants Management, Division of Discretionary Grants, 370 L'Enfant Promenade, SW., Washington, DC 20447.

VII. Agency Contacts

Program Office Contact: Head Start Research Support Technical Assistance Team, OPRE Grant Review Team, Xtria, LLC, 8045 Leesburg Pike, Suite 400, Vienna, VA 22182. Phone: 877-663-0250. E-mail: opre@xtria.com.

Grants Management Office Contact: Tim Chappelle, 370 L'Enfant Promenade, Washington, DC 20447. Phone: 202-401-4855. E-mail: tichappelle@acf.hhs.gov.

VIII. Other Information

Notice: Beginning with FY 2006, The Administration for Children and Families (ACF) will no longer publish grant announcements in the Federal Register. Beginning October 1, 2005, applicants will be able to find a synopsis of all ACF grant opportunities and apply electronically for opportunities via: http://www.Grants.gov. Applicants will also be able to find the complete text of all ACF grant announcements on the ACF Web site located at: http://www.acf.hhs.gov/grants/index.html.

Direct Federal grants, sub-award funds, or contracts under the Head Start Program shall not be used to support inherently religious activities such as religious instruction, worship, or proselytization. Therefore, organizations must take steps to separate, in time or location, their inherently religious activities from the services funded under this Program. Regulations pertaining to the prohibition of Federal funds for inherently religious activities can be found on the HHS Web site at http://www.os.dhhs.gov/fbci/waisgate21.pdf.

Applicants will be sent acknowledgements of received applications.

Dated: April 20, 2005.
Naomi Goldstein,
Director, Office of Planning, Research, and Evaluation.

[FR Doc. 05-8220 Filed 4-22-05; 8:45 am]

BILLING CODE 4184-01-P